DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more entities and individuals that have been placed on OFAC's Specially Designated Nationals and Blocked Persons List (SDN List). OFAC has determined that one or more applicable legal criteria were satisfied to place the entities and individuals on the SDN List. All property and interests in property subject to U.S. jurisdiction of these entities and individuals are blocked, and U.S. persons are generally prohibited from engaging in transactions with them.

DATES: See Supplementary Information section for applicable date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action

On December 18, 2020, OFAC determined that the property and interests in property subject to U.S. jurisdiction of the following entity and individuals are blocked under the relevant sanctions authority listed below.

Entity

1. EX-CLE SOLUCIONES BIOMETRICAS C.A. (a.k.a. EX-CLE C.A.; a.k.a. “EX-CLE”), Municipio Libertador, Parroquia Catedral, Urbanizacion Catedral, Avenida Sur, Esquina Sociedad a Gradillas, Edificio Bompland, Caracas, Venezuela; 2da Transversal entre 2da y 3er Avenida de Santa Eduvigis, Municipio Sucre, Caracas, Estado Miranda, Venezuela; RIF # J407882333 (Venezuela) [VENEZUELA] (Linked To: MADURO MOROS, Nicolas).

Designated pursuant to section 1(a)(ii)(D)(1) of Executive Order 13692 of March 8, 2015, “Blocking Property and Suspending Entry of Certain Persons Contributing to the Situation in Venezuela,” 80 FR 12747, 3 CFR, 2015 Comp., p. 276 (E.O. 13692), as amended by Executive Order 13857 of January 25, 2019, “Taking Additional Steps To Address the National Emergency With Respect to Venezuela,” 84 FR 509 (E.O. 13857), for having materially assisted, sponsored, or provided financial, material, or technological support for, or goods or services to or in support of, Nicolas Maduro Moros, a person whose property and interests in property are blocked pursuant to E.O. 13692.

Individuals

1. SAN AGUSTIN, Guillermo Carlos, Buenos Aires, Argentina; Caracas, Venezuela; DOB 28 Apr 1975; POB Argentina; nationality Argentina; alt. nationality Italy; Gender Male; Cedula No. E-84424403 (Venezuela); alt. Cedula No. 24498939 (Argentina); Passport AA2196839 (Italy) expires 26 Jun 2018; C.U.I.T. 20-24498939-0 (Argentina) (individual) [VENEZUELA] (Linked To: EX-CLE SOLUCIONES BIOMETRICAS C.A.).

Designated pursuant to section 1(a)(ii)(E) of E.O. 13692, as amended by E.O. 13857, for having acted or purported to act for or on behalf of, directly or indirectly, EX-CLE SOLUCIONES BIOMETRICAS C.A., an entity whose property and interests in property are blocked pursuant to E.O. 13692.

2. MACHADO REQUENA, Marcos Javier, Caracas, Venezuela; DOB 18 Jun 1981; POB Venezuela; nationality Venezuela; Gender Male; Cedula No. V-15334084 (Venezuela); Passport 093061892 (Venezuela) expires 15 Feb 2021 (individual) [VENEZUELA] (Linked To: EX-CLE SOLUCIONES BIOMETRICAS C.A.).

Designated pursuant to section 1(a)(ii)(E) of E.O. 13692, as amended by E.O. 13857, for having acted or purported to act for or on behalf of, directly or indirectly, EX-CLE SOLUCIONES BIOMETRICAS C.A., an entity whose property and interests in property are blocked pursuant to E.O. 13692.

Dated: December 18, 2020.
Andrea Gacki,
Director, Office of Foreign Assets Control, U.S. Department of the Treasury.

[FR Doc. 2020-28699 Filed 12-28-20; 8:45 am]

BILLING CODE 4810-AL-P